ENVIRONMENTAL PROTECTION AGENCY

[EPA-HQ-OPP-2010-0001; FRL-8811-3]

SFIREG Pesticide Operations and Management Working Committee Meeting

AGENCY: Environmental Protection Agency (EPA).

ACTION: Notice.

SUMMARY: The Association of American Pesticide Control Officials (AAPCO)/State FIFRA Issues Research and Evaluation Group (SFIREG), Pesticide Operations and Management (POM) Working Committee will hold a 2-day meeting, beginning on March 29, 2010 and ending March 30, 2010. This notice announces the location and times for the meeting and sets forth the tentative agenda topics.

DATES: The meeting will be held on Monday, March 29, 2010 from 8:30 a.m. to 5 p.m. and 8:30 a.m to 12 noon on Tuesday March 30, 2010.

To request accommodation of a disability, please contact the person listed under FOR FURTHER INFORMATON CONTACT, preferably at least 10 days prior to the meeting, to give EPA as much time as possible to process your request.

ADDRESSES: The meeting will be held at the Ocean Plaza Resort, 15th Street, on Tybee Island, GA.

FOR FURTHER INFORMATION CONTACT: Ron Kendall, Field and External Affairs Division (7506P), Office of Pesticide Programs, Environmental Protection Agency, 1200 Pennsylvania Ave., NW., Washington, DC 20460-0001; telephone number: (703) 305-5561; fax number: (703) 308-1850; e-mail address: kendall.ron@epa.gov or contact Grier Stayton, SFIREG Executive Secretary, P.O. Box 466, Milford, DE 19963; telephone number (302) 422-8152; fax (302) 422-2435; e-mail address: grierstaytonaapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How Can I Get Copies of this Document and Other Related Information?

EPA has established a docket for this action under docket ID number EPA-HQ-OPP-2010-0001. Publicly available docket materials are available either in the electronic docket at http://www.regulations.gov, or if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

You may access this Federal Register document electronically through the EPA Internet under the “Federal Register” listings at http://www.epa.gov/fedrgstr.

II. Background

Topics may include but are not limited to:

1. Supplemental labeling: Regulatory issues, expiration dates, etc.

2. Suggested updates to the Section 24(c) guidance document.

3. Discussion of label quality initiatives (training, SLITS, QA).

4. Review of EPA/FDA Standard Operating Procedures document for pesticide residues in food commodities.

5. POM potential role in review of new labels.

6. FIFRA compliances and Organic Materials Review Institute (OMRI) products.

7. Reviewing and updating the Label Review Manual.

8. Soil fumigant label changes for 2010/11 and compliance strategies

III. How Can I Request to Participate in this Meeting?

This meeting is open for the public to attend. You may attend the meeting without further notification.

List of Subjects

Environmental Protection, Pesticide and pest.

Dated: February 2. 2010.
Jay S. Ellenberger,
Director, Field and External Affairs Division, Office of Pesticide Programs.

[FR Doc. 2010-2790 Filed 2-10-10; 8:45 a.m.]

BILLING CODE 6560-50-S